DEPARTMENT OF THE INTERIOR

Bureau of Land Management

[13X LLWYR02000 L14300000.ER0000 242A.00]

Change in Dates of Seasonal Closure of Public Land in the Bald Ridge Area, Park County, WY

AGENCY: Bureau of Land Management, Interior.

ACTION: Notice.

SUMMARY: Notice is hereby given to change the dates of the seasonal closure of public land in the Bald Ridge Area that was published in the Federal Register on Thursday, August 5, 1999 (64 FR 42711). The previous closure was in effect from December 15 through April 30 each winter and spring season to all use, except for specifically authorized vehicles. Pursuant to this Notice, the Bald Ridge area located south of the Clarks Fork of the Yellowstone River and west and north of Hogan Reservoir of Park County, Wyoming on public land administered by the Bureau of Land Management (BLM) Cody Field Office, is now closed from January 1 through April 30 of each winter and spring season to all use (such as human presence, hiking, horseback riding, mountain bike riding, cross-country skiing, and all motorized use), except for specifically authorized activities. The total acreage of this closure is 6,036 acres. This action is being taken for resource protection of essential wintering habitat for elk and mule deer. No access into this area will be allowed unless permitted by the Authorized Officer (BLM, Cody Field Manager).

DATES: This change of seasonal closure dates is effective March 7, 2013, and will remain in effect until modified or rescinded by the Authorized Officer.

FOR FURTHER INFORMATION CONTACT: Michael Stewart, Field Manager, BLM, Cody Field Office at:

• Telephone: 307-578-5900;

• Email: m75stewa@blm.gov

• Address: 1002 Blackburn Street, Cody, WY 82414

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Cody Field Office is responsible for the management of essential wildlife habitat in the Bald Ridge area of the Absaroka Front and other crucial habitat areas located throughout the Bighorn Basin. These essential habitat areas and management thereof are covered under the Cody Resource Management Plan (RMP), which was signed on November 9, 1990. “Seasonal restrictions will be applied as appropriate to surface-disturbing and disruptive activities and land uses on big game crucial habitat, including wintering ranges and elk calving areas.” (Cody RMP, p. 40).

The Bald Ridge area is crucial wintering habitat for big game. Increasing visitor activity such as horseback riding, hiking and antler hunting has caused impacts to the wintering herds. These activities are stressing game animals during a period when the animals are most susceptible to stress-related health effects that could cause death. These activities also force the herds to be displaced from their winter habitat. The Cody Field Office published a Notice in the Federal Register on Friday, March 29, 1996 (61 FR 14159), that closed the Bald Ridge area from December 15 through April 30 each winter and spring season. The Cody Field Office subsequently extended the seasonal closure in a second Notice in the Federal Register on Thursday, August 5, 1999 (64 FR 42711).

The December 15 closure date was largely based on the ending date of an elk hunting season as established by the Wyoming Game and Fish Department. In recent years the Wyoming Game and Fish Department determined it was necessary to harvest additional elk in the Bald Ridge area and extended the end of the elk hunting season to December 31. At the request of the Wyoming Game and Fish Department, members of the public, and an adjoining private landowner, the Cody Field Office determined it was necessary for the seasonal closure of the Bald Ridge area to coincide with the December 31 end of the elk hunting season. The BLM Cody Field Office analyzed the date change in Environmental Assessment WY-020-EA13-20. A Finding of No Significant Impact (FONSI) was signed on March 7, 2013. Subsequently, a Decision Record was signed on March 7, 2013.

The following described BLM-administered lands south of the Clarks Fork of the Yellowstone River and west of Hogan Reservoir are included in this seasonal closure:

Sixth Principle Meridian, Wyoming

T. 56 N., R. 103 W.,

Tracts 81 and 82, tracts 88 to 97, inclusive, tracts 107 to 109, inclusive, tracts 113 to 116, inclusive, and tracts 119 to 122, inclusive;

Sec. 7, SE¼SE¼;

Sec. 8, SW¼SW¼;

Sec. 16, lots 5 and 11;

Sec. 17, lots 1 to 6, inclusive, and W½W½;

Sec. 18;

Sec. 19;

Sec. 20;

Sec. 21, lots 1 to 4, inclusive, W½NW¼, SW¼, and SW¼SE¼;

Sec. 22, lot 7;

Sec. 27, lots 1, 2, and 8;

Sec. 28, lots 1 to 6, inclusive, N½, and NW¼SE¼;

Sec. 29, lots 1 to 3, inclusive, N½, and W½SW¼;

Sec. 30;

Sec. 31, lots 5 to 7, inclusive, N½NE¼, E½NW¼, and NE¼SW¼;

Sec. 32, lots 4, 5, 7, and 8, and NW¼NW¼;

Sec. 33, lots 1 to 8, inclusive, W½SW¼, and E/12SE¼.

Authority for closure and restriction orders is provided under 43 CFR subpart 8341.2 (a and b), 8364.1. Violations of this closure are punishable by a fine not to exceed $1500 and (or) imprisonment not to exceed 12 months.

Larry Claypool,
Acting State Director.

[FR Doc. 2013-18565 Filed 8-1-13; 8:45 am]

BILLING CODE 4310-22-P